DEPARTMENT OF THE INTERIOR

Fish and Wildlife Service

Trempealeau National Wildlife Refuge, Buffalo and Trempealeau Counties, WI

AGENCY: Fish and Wildlife Service, Interior.

ACTION: Notice of availability of a draft comprehensive conservation plan and environmental impact statement; request for comments.

SUMMARY: The U.S. Fish and Wildlife Service (Service), announces that a Draft Comprehensive Conservation Plan (CCP) and associated Environmental Impact Statement are available for the Trempealeau National Wildlife Refuge (NWR). This notice is furnished in compliance with our CCP policy to advise other agencies and the public of their opportunity to comment on the draft documents.

DATES: To ensure consideration, your written comments must be received by August 11, 2007. A public open house meeting will be held to accept comments in person; the date, time, and location of the meeting will be announced in local media.

ADDRESSES: Copies of the Draft CCP are available on compact disk or hard copy. You may access and download a copy via the planning Web site at http://www.fws.gov/midwest/planning/Trempealeau or you may obtain a copy by writing to the following address: U.S. Fish and Wildlife Service, Division of Conservation Planning, Bishop Henry Whipple Federal Building, 1 Federal Drive, Fort Snelling, Minnesota 55111.

Send your comments to Trempealeau National Wildlife Refuge, W28488 Refuge Road, Trempealeau, Wisconsin, 54661 or direct e-mail to r3planning@fws.gov. Comments may also be submitted through the Service's regional Web site at: http://www.fws.gov/midwest/planning.

FOR FURTHER INFORMATION CONTACT: Vickie Hirschboeck, 608-539-2311 extension 12.

SUPPLEMENTARY INFORMATION: With this notice, the Service announces the availability of the Draft CCP/EIS for the Trempealeau NWR with headquarters in Trempealeau, WI.

Background

The CCP Process

The National Wildlife Refuge System Administration Act of 1966, as amended by the National Wildlife Refuge System Improvement Act of 1997 (16 U.S.C. 668dd-668ee), requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

Each unit of the National Wildlife Refuge System is established with specific purposes. The Service uses these purposes to develop and prioritize management goals and objectives within the National Wildlife Refuge System mission, and to guide which public uses will occur on these Refuges. The planning process is a way for us and the public to evaluate management goals and objectives for the best possible means to conserve the Refuge's important wildlife habitat, while providing for wildlife-dependent recreation opportunities that are compatible with the Refuges' establishing purposes and the mission of the National Wildlife Refuge System.

The environmental review of this project is being conducted in accordance with the requirements of the National Environmental Policy Act of 1969, as amended (42 U.S.C. 4321 et seq.); NEPA Regulations (40 CFR parts 1500-1508); other appropriate Federal laws and regulations; and our policies and procedures for compliance with those regulations. All comments we receive from individuals on our environmental impact statements become part of the official public record. We will handle requests for such comments in accordance with the Freedom of Information Act, NEPA (40 CFR 1506.6(f)), and other Departmental and Service policies and procedures.

Trempealeau National Wildlife Refuge

The Refuge, established by an Executive Order in 1936 to provide a refuge and breeding ground for migratory birds and other wildlife, encompasses 6,226 acres. The Refuge is part of the Upper Mississippi River National Wildlife and Fish Refuge Complex. An estimated 70,000 visitors enjoy birding, hiking, biking, hunting, fishing, or photography at the Refuge. Over 2,000 young people learn about their environment each year through education programs. A dedicated force of volunteers contributes to the quality of the visitor experience, as well as successful habitat management.

In September 2002 and March 2003, public meetings were held and written comments were accepted to identify issues and concerns relevant to the Refuge. The issues were grouped into five topic areas: Landscape; wildlife and habitat; public use; neighboring landowners and communities; and administration and operations.

The focus of the CCP over the next 15 years will be on enhancing forest and wetland habitat; improving outreach, access, and wildlife-dependent recreation opportunities; and improving staffing and infrastructure capability.

Three alternatives were evaluated in the EIS: (1) No action or current direction; (2) wildlife and habitat focus; and (3) integrated public use and wildlife and habitat focus (preferred). The alternatives differ mainly in the level of effort and resources given to fish, wildlife, and habitat management and public use opportunities and programs. Under the preferred alternative all current recreational uses would continue, and regulations would be reviewed to ensure consistency with existing laws and policy.

Dated: February 15, 2007.
Charles M. Wooley,
Acting Regional Director, Region 3, U.S. Fish and Wildlife Service, Fort Snelling, Minnesota.

This document was received at the Office of the Federal Register on June 7, 2007.

[FR Doc. E7-11315 Filed 6-11-07; 8:45 am]

BILLING CODE 4310-55-P